DEPARTMENT OF HOMELAND SECURITY

Coast Guard

[Docket No. USCG-2008-0923]

Notification of the Imposition of Conditions of Entry for Certain Vessels Arriving to the United States; Cambodia

AGENCY: Coast Guard, DHS.

ACTION: Notice.

SUMMARY: The Coast Guard announces that it will impose conditions of entry on vessels arriving from the country of Cambodia.

DATES: The policy announced in this notice will become effective November 7, 2008.

ADDRESSES: This notice will be available for inspection and copying at the Docket Management Facility at the U.S. Department of Transportation, Room W12-140 on the Ground Floor of the West Building, 1200 New Jersey Avenue, SE., Washington, DC 20590, between 9 a.m. and 5 p.m., Monday through Friday, except Federal holidays. The telephone number is 202-366-9329.

FOR FURTHER INFORMATION CONTACT: If you have questions on this notice, call Mr. Michael Brown, International Port Security Evaluation Division, Coast Guard, telephone 202-372-1081. If you have questions on viewing or submitting material to the docket, call Renee V. Wright, Program Manager, Docket Operations, telephone 202-366-9826.

SUPPLEMENTARY INFORMATION:

Background and Purpose

Section 70110 of the Maritime Transportation Security Act of 2002 (Pub. L. 107-295, Nov. 25, 2002) provides that the Secretary of Homeland Security may impose conditions of entry on vessels requesting entry into the United States arriving from ports that are not maintaining effective anti-terrorism measures. The Coast Guard has been delegated the authority by the Secretary to carry out the provisions of this section. Previous notices have imposed or removed conditions of entry on vessels arriving from certain countries and those conditions of entry and the countries they pertain to remain in effect unless modified by this notice.

The Coast Guard has determined that ports in Cambodia, with certain exceptions, are not maintaining effective anti-terrorism measures. Accordingly, effective November 7, 2008 the Coast Guard will impose the following conditions of entry on vessels that visited ports in Cambodia, with the exception of the Phnom Pehn Autonomous Port and Sihanoukville Autonomous Port, during their last five port calls. Vessels must:

• Implement measures per the ship's security plan equivalent to Security level 2 while in a port in the above country;

• Ensure that each access point to the ship is guarded and that the guards have total visibility of the exterior (both landside and waterside) of the vessel while the vessel is in ports in the above country. Guards may be provided by the ship's crew, however, additional crewmembers should be placed on the ship if necessary to ensure that limits on maximum hours of work are not exceeded and/or minimum hours of rest are met, or provided by outside security forces approved by the ship's master and Company Security Officer;

• Attempt to execute a Declaration of Security while in a port in the above country;

• Log all security actions in the ship's log;

• Report actions taken to the cognizant U.S. Coast Guard Captain of the Port prior to arrival into U.S. waters; and

• Based on the findings of the Coast Guard boarding or examination, vessels may be required to ensure that each access point to the ship is guarded by armed private security guards and that they have total visibility of the exterior (both landside and waterside) of the vessel while in U.S. ports. The number and position of the guards have to be acceptable to the cognizant Coast Guard Captain of the Port prior to the vessel's arrival.

Dated: September 30, 2008.
Rear Admiral Sally Brice-O'Hara,
USCG, Deputy Commandant for Operations.

[FR Doc. E8-25436 Filed 10-23-08; 8:45 am]

BILLING CODE 4910-15-P